DEPARTMENT OF HOUSING AND URBAN DEVELOPMENT

[Docket No. FR-5951-N-01]

Notice of Proposal To Establish a Tribal Intergovernmental Advisory Committee; Request for Comments on Committee Structure

AGENCY: Office of Assistant Secretary for Public and Indian Housing, HUD.

ACTION: Notice.

SUMMARY: This notice solicits comments and recommendations regarding the establishment of a Tribal Intergovernmental Advisory Committee (TIAC), consisting of tribal representatives, to assist HUD further develop and maintain its Indian housing programs. The TIAC is intended to further communications between HUD and Federally recognized Indian tribes on HUD programs, make recommendations to HUD regarding current program regulations, provide advice in the development of HUD's American Indian and Alaska Native housing priorities, and encourage peer learning and capacity building among tribes and non-tribal entities. Consistent with HUD's Tribal Government-to-Government Consultation Policy, published elsewhere in this Federal Register, this notice solicits input on the structure of the TIAC.

DATES: Comments on the proposed structure of the TIAC are due on or before: June 23, 2016.

ADDRESSES: Interested persons are invited to submit comments on the structure of the Tribal Intergovernmental Advisory Committee. There are two methods for comments to be included in the docket for this rule. Additionally, all submissions must refer to the above docket number and title.

1. Submission of Comments by Mail. Comments may be submitted by mail to the Regulations Division, Office of the General Counsel, Department of Housing and Urban Development, 451 Seventh Street SW., Room 10276, Washington, DC 20410-0500.

2. Electronic Submission of Comments. Interested persons may submit comments electronically through the Federal eRulemaking Portal at www.regulations.gov. HUD strongly encourages the electronic submission of comments. Electronic submission allows the maximum time to prepare and submit a nomination, ensures timely receipt by HUD, and enables HUD to make them immediately available to the public. Comments submitted electronically through the www.regulations.gov Web site can be viewed by interested members of the public. Individuals should follow the instructions provided on that site to submit comments electronically.

Note: To receive consideration, comments must be submitted through one of the two methods specified above. Again, all submissions must refer to the docket number and title of the rule. No Facsimile Comments. Facsimile (FAX) comments are not acceptable.

Public Inspection of Comments. All properly submitted comments and communications submitted to HUD will be available for public inspection and copying between 8 a.m. and 5 p.m. weekdays at the above address. Due to security measures at the HUD Headquarters building, an advance appointment to review the submissions must be scheduled by calling the Regulations Division at (202) 708-3055 (this is not a toll-free number). Individuals with speech or hearing impairments may access this number via TTY by calling the Federal Information Relay Service at (800) 877-8339. Copies of all submissions are available for inspection and downloading at www.regulations.gov.

FOR FURTHER INFORMATION CONTACT: Heidi J. Frechette, Deputy Assistant Secretary for Native American Programs, Office of Public and Indian Housing, Department of Housing and Urban Development, 451 Seventh Street SW., Room 4126, Washington, DC 20410-5000, telephone, (202) 402-7598 (this is not a toll-free number). Individuals with speech or hearing impairments may access this number via TTY by calling the toll-free Federal Relay Service at 1-800-877-8339.

SUPPLEMENTARY INFORMATION:

I. Background

Elsewhere in this Federal Register, HUD is publishing its updated Tribal Government-to-Government Consultation Policy. Consistent with Executive Order 13175, HUD's Tribal Government-to-Government Consultation Policy recognizes the right of Indian tribes to self-government, and supports tribal sovereignty and self-determination. It provides that HUD will engage in regular and meaningful consultation and collaboration with Indian tribal officials in the development of federal policies that have tribal implications. Executive Orders 13175 and 13647 also require Federal agencies to advance tribal self-governance and ensure that the rights of sovereign tribal governments are fully respected by conducting open and candid consultations.

To further enhance consultation and collaboration with tribal governments, HUD is proposing to establish the TIAC. Several Federal agencies have established similar tribal advisory committees, including the Environmental Protection Agency, the Department of Health and Human Services, and the Department of the Treasury. These advisory committees convene periodically during the year to exchange information with agency staff, notify tribal leaders of activities or policies that could affect tribes, and provide guidance on consultation. Prior to HUD's establishment of the TIAC, this notice solicits input into the structure of the committee.

II. Proposed Structure of the TIAC

A. Purpose and Role of the TIAC. The purposes of the TIAC are:

(1) To further facilitate intergovernmental communication between HUD and Federally recognized Indian tribal leaders on all HUD programs;

(2) To make recommendations to HUD regarding current program regulations that may require revision, as well as suggest rulemaking methods to develop such changes;

(3) To advise in the development of HUD's American Indian and Alaska Native (AIAN) housing priorities; and

(4) To encourage peer learning and capacity building among tribes and non-tribal entities. The role of the TIAC is to provide recommendations and input to HUD and to provide a vehicle for regular and meaningful consultation and collaboration with tribal officials. HUD will maintain the responsibility to exercise program management, including the drafting of HUD notices and guidance.

B. Charter and Protocols. The TIAC will develop its own ruling charter and protocols. HUD will provide staff for the TIAC to act as a liaison between TIAC and HUD officials, manage meeting logistics, and provide general support for TIAC activities.

C. Meetings and Participation. Subject to availability of federal funding, the TIAC will meet in-person at least twice a year, to exchange information with HUD staff, discuss agency policies and activities that could affect tribes, and facilitate further consultation with tribal leaders. HUD will pay for these meetings, including the member's cost to travel to these meetings. The TIAC may meet on a more frequent basis by conference calls or other forms of communication. Additional in-person meetings may be scheduled at HUD's discretion. Participation at TIAC meetings will be limited to TIAC members or their alternates. Alternates must be designated in writing by the member's tribal government to act on their behalf. TIAC committee members may bring one additional staff person to the meeting at their expense. Meeting minutes will be available on the HUD Web site.

D. TIAC Membership. The TIAC will be comprised of HUD representatives and tribal delegates from across the country. The TIAC will be composed of up to four HUD officials and up to eight tribal representatives. One tribal member will represent each of the six HUD ONAP regions. The two remaining tribal members will serve at-large. Only duly elected or appointed tribal leaders may serve as tribal members or alternates of the TIAC. One of the tribal members will be selected by the committee to serve as the chairperson.

The Secretary shall appoint the members of the TIAC. TIAC tribal delegates will serve a term of 2 years. To ensure consistency between tribal terms, delegates will have a staggered term of appointment. In order to establish a staggered term of appointment, half of the tribal members appointed in the inaugural year of the TIAC will serve 2 years and the other half will serve 3 years. Delegates must designate their preference to serve 2 or 3 years; however, HUD will make the final determination on which members will serve for 3 years. Once these members complete these initial terms, future tribal members will serve terms that last 2 years.

E. The establishment of the TIAC is intended to enhance government-to-government relationships, communications, and mutual cooperation between HUD and tribes and is not intended to, and will not, create any right to administrative or judicial review, or any other right or benefit or trust responsibility, substantive or procedural, enforceable by a party against the United States, its agencies or instrumentalities, its officers or employees, or any other persons.

III. Request for Nominations

Once a general structure for the TIAC is established, HUD intends to publish a request for nominations for the TIAC in the Federal Register and will appoint the members of the TIAC from the pool of nominees it receives under this request. HUD will announce its final selections for TIAC membership in a subsequent Federal Register notice. Members will be selected based on proven experience and engagement in AIAN housing and community development matters. At-large members will be selected based on their ability to represent specific interests that might not be represented by the selected regional members.

Dated: June 20, 2016.
Lourdes Castro Ramirez,
Principal Deputy Assistant Secretary for Public and Indian Housing.

[FR Doc. 2016-14895 Filed 6-22-16; 8:45 am]

BILLING CODE 4210-67-P